DEPARTMENT OF DEFENSE

Department of the Air Force

[Docket ID: USAF-2024-HQ-0010]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Web-based Legal Information Online System (WebLIONS); OMB Control Number 0701-0161.

Type of Request: Revision.

Number of Respondents: 194,000.

Responses per Respondent: 1.

Annual Responses: 194,000.

Average Burden per Response: 3 minutes.

Annual Burden Hours: 9,700.

Needs and Uses: The information collection requirement is necessary to obtain personal identifiable information to provide efficient and competent legal assistance to individuals with personal civil legal issues. Legal assistance records assist Air Force attorneys with tracking and managing cases, performing conflict checks, and generating legal documents for clients. The system optimizes the use of information technology and streamlines the legal assistance process by eliminating manual case tracking requirements and physical storage requirements, as well as assisting the Air Force in compiling and analyzing statistical data related to providing legal assistance to clients.

Affected Public: Individuals or households.

Frequency: On occasion.

Respondent's Obligation: Voluntary.

DOD Clearance Officer: Mr. Reginald Lucas.

Dated: January 3, 2025.
Aaron T. Siegel,
Alternate OSD Federal Register Liaison Officer, Department of Defense.

[FR Doc. 2025-00277 Filed 1-8-25; 8:45 am]

BILLING CODE 3911-44-P